NUCLEAR REGULATORY COMMISSION

10 CFR Parts 20 and 61

[NRC-2011-0012; NRC-2015-0003]

RIN 3150-AI92

Low-Level Radioactive Waste Disposal

AGENCY: Nuclear Regulatory Commission.

ACTION: Proposed rule and draft NUREG; reopening of comment period.

SUMMARY: On March 26, 2015, the U.S. Nuclear Regulatory Commission (NRC) requested public comment on a proposed rule that would amend its regulations that govern low-level radioactive waste (LLRW) disposal facilities. The proposed rule would require new and revised site-specific technical analyses, permit the development of site-specific criteria for LLRW acceptance based on the results of those analyses, facilitate implementation, and better align the requirements with current health and safety standards. Also on March 26, 2015, the NRC requested comment on draft guidance to address the implementation of the proposed regulations (NUREG-2175, “Guidance for Conducting Technical Analyses for 10 CFR part 61”). The public comment period for the proposed rule and draft guidance closed on July 24, 2015. The NRC is reopening the public comment periods for the proposed rule and draft guidance to allow more time for members of the public to develop and submit their comments.

DATES: The comment periods for the proposed rule published on March 26, 2015 (80 FR 16081), and the draft guidance published on March 26, 2015 (80 FR 15930), have been reopened. Comments should be filed no later than September 21, 2015.

ADDRESSES: The methods for submitting comments on the proposed rule are different from the methods for submitting comments on the draft guidance.

Proposed Rule: You may submit comments on the proposed rule by any of the following methods:

• Federal Rulemaking Web site: Go to http://www.regulations.gov and search for Docket ID NRC-2011-0012.

• Email comments to: Rulemaking.Comments@nrc.gov. If you do not receive an automatic email reply confirming receipt, then contact us at (301) 415-1677.

• Fax comments to: Secretary, U.S. Nuclear Regulatory Commission at (301) 415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: (301) 415-1677.

Draft Guidance: You may submit comments on the draft guidance by any of the following methods:

• Federal Rulemaking Web site: Go to http://www.regulations.gov and search for Docket ID NRC-2015-0003.

• Mail comments to: Cindy Bladey, Office of Administration, Mail Stop: OWFN-12-H08, U.S. Nuclear Regulatory Commission, Washington, DC 20555-0001.

Address questions about NRC dockets to Carol Gallagher; telephone: (301) 415-3463; email: Carol.Gallagher@nrc.gov. For technical questions contact the individuals listed in the FOR FURTHER INFORMATION CONTACT section of this document.

For additional direction on obtaining information and submitting comments, see “Obtaining Information and Submitting Comments” in the SUPPLEMENTARY INFORMATION section of this document.

FOR FURTHER INFORMATION CONTACT: Gary Comfort, telephone: (301) 415-8106, email: Gary.Comfort@nrc.gov; or Stephen Dembek, telephone: (301) 415-2342, email: Stephen.Dembek@nrc.gov. Both of the Office of Nuclear Material Safety and Safeguards, U.S. Nuclear Regulatory Commission, Washington, DC 20555-0001.

SUPPLEMENTARY INFORMATION:

I. Obtaining Information and Submitting Comments

A. Obtaining Information

Please refer to Docket ID NRC-2011-0012 (proposed rule) and Docket ID NRC-2015-0003 (draft guidance) when contacting the NRC about the availability of information for this action. You may obtain publicly-available information related to the proposed rule and draft guidance by any of the following methods:

• Federal Rulemaking Web site: Go to http://www.regulations.gov and search for Docket ID NRC-2011-0012 (proposed rule) or Docket ID NRC-2015-0003 (draft guidance).

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, (301) 415-4737, or by email to pdr.resource@nrc.gov. The draft guidance, NUREG-2175, is available in ADAMS under Accession No. ML15056A516.

• NRC's PDR: You may examine and purchase copies of public documents at the NRC's PDR, Room O1-F21, One White Flint North, 11555 Rockville Pike, Rockville, Maryland 20852.

B. Submitting Comments

Please include Docket ID NRC-2011-0012 (proposed rule) or Docket ID NRC-2015-0003 (draft guidance) in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On March 26, 2015 (80 FR 16081), the NRC requested comment on a proposed rule that would amend its regulations that govern LLRW disposal facilities to require new and revised site-specific technical analyses, to permit the development of site-specific criteria for LLRW acceptance based on the results of those analyses, to facilitate implementation, and to better align the requirements with current health and safety standards. Also on March 26, 2015 (80 FR 15930), the NRC requested comments on draft guidance to address the implementation of the proposed regulations (NUREG-2175, “Guidance for Conducting Technical Analyses for 10 CFR part 61”). The public comment periods for the proposed rule and draft guidance closed on July 24, 2015. The NRC has decided to reopen the public comment periods for the proposed rule and draft guidance until September 21, 2015, to allow more time for members of the public to develop and submit their comments.

Dated at Rockville, Maryland, this 19th day of August, 2015.
For the Nuclear Regulatory Commission.
Annette L. Vietti-Cook,
Secretary of the Commission.

[FR Doc. 2015-21169 Filed 8-26-15; 8:45 am]

BILLING CODE 7590-01-P